DEPARTMENT OF DEFENSE

Department of the Navy

Notice of Availability of Government-Owned Invention; Available for Licensing

AGENCY: Department of the Navy, DOD.

ACTION: Notice.

SUMMARY: The following invention is assigned to the U.S. Government as represented by the Secretary of the Navy and is made available for licensing by the Department of the Navy. U.S. Patent Application Serial Number 10/283,352 entitled “Nitrate-Hydrogen Peroxide Chemical Adducts and Use Thereof.”

ADDRESSES: Requests for copies of the Patent Application cited should be directed to the Indian Head Division, Naval Surface Warfare Center, Code O5T, 101 Strauss Avenue, Indian Head, MD 20640-5035.

FOR FURTHER INFORMATION CONTACT: Dr. J. Scott Deiter, Head, Technology Transfer Office, Naval Surface Warfare Center Indian Head Division, Code 05T, 101 Strauss Avenue, Indian Head, MD 20640-5035, telephone (301) 744-6111.

Dated: July 21, 2003.
E.F. McDonnell,
Major, U.S. Marine Corps, Federal Register Liaison Officer.

[FR Doc. 03-19499 Filed 7-30-03; 8:45 am]

BILLING CODE 3810-FF-P